DEPARTMENT OF COMMERCE

International Trade Administration

[A-423-808]

Stainless Steel Plate in Coils From Belgium: Notice of Rescission of Antidumping Duty Administrative Review

AGENCY: Import Administration, International Trade Administration, Department of Commerce.

DATES: Effective Date: October 20, 2010.

FOR FURTHER INFORMATION CONTACT: Joy Zhang or George McMahon, AD/CVD Operations, Office 3, Import Administration, International Trade Administration, U.S. Department of Commerce, 14th Street and Constitution Avenue, NW., Washington DC 20230; telephone: (202) 482-1168 or (202) 482-1167, respectively.

SUPPLEMENTARY INFORMATION:

Background

On May 3, 2010, the Department of Commerce (“the Department”) published in the Federal Register a notice of “Opportunity to Request Administrative Review” of the antidumping duty order on stainless steel plate in coils from Belgium for the period of review (“POR”), May 1, 2009, through April 30, 2010. See Antidumping or Countervailing Duty Order, Finding, or Suspended Investigation; Opportunity To Request Administrative Review, 75 FR 23236, (May 3, 2010).

On June 1, 2009, in accordance with 19 CFR 351.213(b), the Department received a timely request from ArcelorMittal Stainless Belgium N.V. (“AMS Belgium”) to conduct an administrative review of AMS Belgium. AMS Belgium was the only party to request this administrative review.

On June 30, 2010, the Department published in the Federal Register a notice of initiation of an administrative review of the antidumping duty order on stainless steel plate in coils from Belgium covering one respondent, AMS Belgium. See Initiation of Antidumping and Countervailing Duty Administrative Reviews and Requests for Revocation in Part, 75 FR 37759 (June 30, 2010).

On September 17, 2010, AMS Belgium timely withdrew its request for review. Thus, we are rescinding this administrative review.

Rescission of Administrative Review

Pursuant to 19 CFR 351.213(d)(1), the Secretary will rescind an administrative review, in whole or in part, if the parties that requested a review withdraw the request within 90 days of the date of publication of the notice of initiation of the requested review. On September 17, 2010, AMS Belgium withdrew its request for an administrative review. AMS Belgium withdrew its request before the 90-day deadline, and no other party requested an administrative review of the antidumping duty order on stainless steel plate in coils from Belgium for the POR. Therefore, in response to AMS Belgium's withdrawal of its request for review, and pursuant to 19 CFR 351.213(d)(1), the Department hereby rescinds the administrative review of the antidumping duty order on stainless steel plate in coils from Belgium for the period May 1, 2009, through April 30, 2010.

Assessment Instructions

The Department will instruct U.S. Customs and Border Protection (CBP) to assess antidumping duties on all appropriate entries.¹ For the company for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

¹ On August 16, 2010, the Court of International Trade (“CIT”) issued an Order modifying the preliminary injunction. See Order Granting Plaintiff's Motion to Modify the Preliminary Injunction Order, ArcelorMittal Stainless Belgium N.V. v. United States, No. 08-434 (CIT August 16, 2010). In this Order, the CIT modified its January 16, 2009, Order granting Plaintiff's Motion for Preliminary Injunction, and enjoined liquidation of any unliquidated entries of SSPC from Belgium which contain merchandise that (i) is 4.75 mm or more in nominal thickness, but which has an actual thickness of less than 4.75 mm, and within the dimensional tolerances specified under ASTM standard A480/480M, (ii) was produced and exported by Ugine & ALZ Belgium N.V., any of its predecessors-in-interest, as determined by the Department of Commerce, and/or any of its successors-in-interest, as determined by the Department of Commerce, and (iii) is otherwise subject to the antidumping duty order and countervailing duty order on certain SSPC from Belgium. See 64 FR 27756 (May 21, 1999) and 64 FR 25288 (May 11, 1999), respectively. The modified preliminary injunction therefore enjoins certain entries subject to this review.

Notification to Importers

This notice serves as a reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent increase in antidumping duties by the amount of antidumping duties and/or countervailing duties reimbursed.

Notification Regarding Administrative Protective Order

This notice serves as a final reminder to parties subject to administrative protective orders (APO) of their responsibility concerning the disposition of proprietary information disclosed under an APO in accordance with 19 CFR 351.305(a)(3). Timely written notification of the return/destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: October 13, 2010.
Susan H. Kuhbach,
Acting Deputy Assistant Secretary for Antidumping and Countervailing Duty Operations.

[FR Doc. 2010-26460 Filed 10-19-10; 8:45 am]

BILLING CODE 3510-DS-P